DEPARTMENT OF THE TREASURY

Office of the Comptroller of the Currency

Privacy Act of 1974, as Amended

AGENCY: Office of the Comptroller of the Currency, Treasury.

ACTION: Adoption of Privacy Act Systems of Records.

SUMMARY: The Office of the Comptroller of the Currency (OCC), a bureau of the Department of Treasury, is publishing this notice to notify all interested parties, pursuant to section (e)(4) of the Privacy Act (5 U.S.C. 552a(e)(4)), that the OCC hereby adopts the Privacy Act systems of records of the Office of Thrift Supervision (OTS). A list of the systems of the OTS can be found at 74 FR 31103, June 29, 2009, and can be updated with reference to 76 FR 7243 and 76 FR 7242, February 9, 2011.

DATES: Effective Date: July 21, 2011.

FOR FURTHER INFORMATION CONTACT: Roger Mahach, Chief Information Security and Privacy Officer, (202) 649-5830; Frank Vance, Jr., Disclosure Officer, Communications Division, (202) 874-4700; or, Kristin Merritt, Special Counsel, Administrative and Internal Law Division, (202) 874-4460, 250 E Street, SW., Washington, DC 20219.

SUPPLEMENTARY INFORMATION: Pursuant to section 313 of Title III of the Dodd Frank Wall Street Reform and Consumer Protection Act, Public Law 111-203-July 21, 2010 (the Act), the OTS will be abolished. On July 21, 2011 (the designated transfer date under section 1062 of the Act), pursuant to section 312 of the Act, the OTS will be integrated into the OCC. Following this integration, all functions of the OTS and the Director of the OTS that are related to Federal savings associations (and not otherwise transferred to another agency pursuant to the Act) will be transferred to the OCC and the Comptroller of the Currency. This includes all rulemaking authority of the OTS and the Director of the OTS, respectively, relating to savings associations.

Also, pursuant to section 312 of the Act, the OCC and the Comptroller succeed in all powers, authorities, rights and duties that were vested in the OTS and the Director of the OTS on the day before the transfer date relating to the functions transferred. Thus, the OCC is charged with assuring the safety and soundness of, and compliance with laws and regulations, fair access to financial services, and fair treatment of customers by, the institutions, including national banks and Federal savings associations, and other persons subject to its jurisdiction. 12 U.S.C. 1 (as amended by section 324 of the Act). The OCC anticipates adopting and publishing in the Federal Register all changes to the OTS' Privacy Act systems of records necessary for the OCC to carry out the provisions of 12 U.S.C. 1 et seq. (as amended), and the Act, and all other laws within the jurisdiction of the OCC.

Dated: July 18, 2011.
Veronica Marco,
Acting Deputy Assistant Secretary for Privacy, Transparency and Records.

[FR Doc. 2011-18885 Filed 7-25-11; 8:45 am]

BILLING CODE 4810-33-P